FEDERAL COMMUNICATIONS COMMISSION

47 CFR Parts 54 and 69

[CC Docket Nos. 00-256, 96-45; DA 01-2916]

Multi-Association Group (MAG) Plan for Regulation of Interstate Services of Non-Price Cap Incumbent Local Exchange Carriers and Interexchange Carriers; Limited Extension of Time for Filing Comments and Replies in Rate-of-Return Access Charge Reform Proceeding

AGENCY: Federal Communications Commission.

ACTION: Proposed rule; extension of time.

SUMMARY: In this document, the Commission extends the time by 45 days for filing comments and reply comments in the Rate-of-Return Access Charge Reform proceeding. Certain members of the Multi-Association Group (MAG) requested an extension of time for filing comments. This proceeding seeks additional comment on proposals for incentive regulation, proposed changes to the “all-or-nothing” rule, pricing flexibility for rate-of-return carriers, and merging the Long Term Support mechanism into the new Interstate Common Line Support mechanism.

DATES: Comments are due on or before February 14, 2002, and reply comments are due on or before March 18, 2002.

ADDRESSES: Parties who choose to file comments by paper should send comments to Magalie Roman Salas, Office of the Secretary, Federal Communications Commission, 445 12th St., SW; TW-A325, Washington, DC 20554. Comments filed through the Commission's Electronic Comment Filing System (ECFS) can be sent as an electronic file via the Internet to http://www.fcc.gov/e-file/ecfs.html.

FOR FURTHER INFORMATION CONTACT: Marvin F. Sacks at (202) 418-2017 (Common Carrier Bureau).

SUPPLEMENTARY INFORMATION: On November, 8, 2001, the Commission released the Second Report and Order and Further Notice of Proposed Rulemaking (“FNPRM”) in CC Docket Nos. 00-256 and 96-45, FCC 01-304, published at 66 FR 59761, November 30, 2001. Certain members of the Multi-Association Group (MAG) requested an extension of time for filing comments in the FNPRM. This proceeding seeks additional comment on proposals for incentive regulation, proposed changes to the “all-or-nothing” rule, pricing flexibility for rate-of-return carriers, and merging the Long Term Support mechanism into the new Interstate Common Line Support mechanism. When filing comments and reply comments, parties should reference CC Docket Nos. 00-256 and 96-45, and conform to the filing procedures contained in this FNPRM. The complete text is available for inspection and copying during normal business hours in the FCC Reference Center, 445 12th Street, SW, Washington, DC, and also may be purchased from the Commission's copy contractor, Qualex International, 445 12th Street, SW, CY-B402, Washington, DC 20554. The FNPRM is also available via the Internet at http://hraunfoss.fcc.gov/edocs_public/attachmatch/FCC-01-304A1.pdf.

Federal Communications Commission.
Jack Zinman,
Deputy Division Chief, Competitive Pricing Division.

[FR Doc. 01-31864 Filed 12-27-01; 8:45 am]

BILLING CODE 6712-01-P